DEPARTMENT OF ENERGY

Federal Energy Regulatory Commission

Notice of Effectiveness of Exempt Wholesale Generator Status

December 10, 2009.

| Docket Nos.
BP Wind Energy North America Inc | EG09-90-000
Big Sky Wind, LLC | EG09-91-000
Eurus Combine Hills II LLC | EG09-92-000
Elmwood Park Power LLC | EG09-93-000
Dry Lake Wind Power, LLC | EG09-94-000
Raleigh Wind Power Partnership | EG09-95-000
SunEdison Canada, LLC | FC09-1-000

Take notice that during the months of October 2009 and November 2009, the status of the above-captioned entities as Exempt Wholesale Generators or Foreign Utility Companies became effective by operation of the Commission's regulations, 18 CFR 366.7(a) (2009).

Kimberly D. Bose,
Secretary.

[FR Doc. E9-29917 Filed 12-15-09; 8:45 am]

BILLING CODE 6717-01-P